DEPARTMENT OF COMMERCE

National Oceanic and Atmospheric Administration

[I.D. 022806E]

Pacific Fishery Management Council; Public Meeting

AGENCY: National Marine Fisheries Service (NMFS), National Oceanic and Atmospheric Administration (NOAA), Commerce.

ACTION: Notice of a public meeting.

SUMMARY: The Pacific Fishery Management Council (Council) will hold a public workshop on the development of the analysis for the groundfish trawl individual quota program alternatives to be considered by the Council.

DATES: The public workshop will begin Tuesday, April 18, 2006, at 10 a.m. and may go into the evening if necessary to complete business for the day; reconvene at 8:30 a.m. on Wednesday, April 19, 2006, continuing until business for the day is completed; and reconvene at 8:30 a.m. on Thursday April 20, 2006, continuing until 5 p.m.

ADDRESSES: The meeting will be held at the Embassy Suites Hotel, Oak Room, 7900 NE 82nd Avenue, Portland, OR 97220; telephone: (503) 460-3000.

Council address: Pacific Fishery Management Council, 7700 NE Ambassador Place, Suite 200, Portland, OR 97220-1384.

FOR FURTHER INFORMATION CONTACT: Mr. Jim Seger, Staff Officer (Economist); telephone: (503) 820-2280.

SUPPLEMENTARY INFORMATION: The purpose of the workshop is to review and receive comments from the public and Council advisory bodies on the first stage of the draft analytical package being developed by Northern Economics Incorporated to support the Council's consideration of individual quotas for the West Coast groundfish trawl fishery.

Although non-emergency issues not contained in this workshop agenda may be discussed, those issues may not be the subject of formal action during these meetings. Action will be restricted to those issues specifically listed in this notice and any issues arising after publication of this notice that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Dated: March 1, 2006.
Tracey L. Thompson,
Acting Director, Office of Sustainable Fisheries, National Marine Fisheries Service.

[FR Doc. E6-3101 Filed 3-3-06; 8:45 am]

BILLING CODE 3510-22-S